DEPARTMENT OF COMMERCE

National Oceanic and Atmospheric Administration

[RTID: 0648-XE117]

Endangered Species; File No. 28282

AGENCY: National Marine Fisheries Service (NMFS), National Oceanic and Atmospheric Administration (NOAA), U.S. Department of Commerce.

ACTION: Notice of receipt; withdrawal of a notice of intent.

SUMMARY: Notice is hereby given that NMFS received an application for a Federal Endangered Species Act (ESA) incidental take permit from United Water Conservation District (applicant) located in Oxnard, California and the permit application is hereby open for public comment. The permit application concerns the incidental take of endangered Southern California steelhead (Oncorhynchus mykiss) associated with the applicant's otherwise lawful continued operation and maintenance of the existing Freeman Diversion on the lower Santa Clara River, Ventura County, and future proposed activities for expanding the diversion. We are considering issuing a 50-year permit to the applicant that would exempt the applicant's incidental take of endangered steelhead, and are making the permit application and related documents available to the public for review and comment. We will use the comments received, the permit application, and other information required by applicable statute and regulation, to determine whether the permit application meets the criteria for issuing the permit to the applicant. Additionally, we are issuing this notice to advise Federal, State, and local government agencies and the public that we are withdrawing our 2013 Notice of Intent (NOI) to prepare a draft Environmental Impact Statement (EIS) for a previous application from United Water Conservation District for an incidental take permit under the ESA.

DATES: Written comments on the permit application (File no. 28282) must be received at the appropriate email address (see ADDRESSES) on or before August 29, 2024.

The notice to prepare an EIS for the previous permit application is withdrawn as of July 30, 2024.

ADDRESSES: The permit application is available for download and review online at https://www.fisheries.noaa.gov/action/united-water-conservation-districts-application-section-10a1b-incidental-take-permit. The application is also available upon request (see FOR FURTHER INFORMATION CONTACT).

You may submit comments electronically through email to the following address: UnitedWaterHcp.wcr@noaa.gov.

Instructions: We may not consider comments submitted by any other method, to another address, or to a specific individual. All comments received are part of the public record and will be made available in a future Federal Register notice. Commenters should avoid including any personally identifiable information or otherwise sensitive information with submissions, which are publicly accessible. We will accept comments that are classified as anonymous or the commenter clearly indicates the intent to remain anonymous. Attachments to electronic comments will be accepted in Microsoft Word, Excel, or Adobe PDF file formats only.

FOR FURTHER INFORMATION CONTACT: Rick Bush at rick.bush@noaa.gov or 562-980-3562.

SUPPLEMENTARY INFORMATION:

ESA-Listed Species Covered in This Notification

The endangered Southern California Distinct Population Segment of steelhead (Oncorhynchus mykiss).

Background

Approximately 16-kilometers (km) upstream of the confluence with the Pacific Ocean, the applicant operates the Freeman Diversion on the lower Santa Clara River to redirect a maximum of 10.62 m³ per second of water from the river to spreading basins for groundwater recharge or directly to the neighboring farming community on the Oxnard Plain. Spanning the entire 366-m river channel, the 7.6-m tall diversion dam presents an obstacle to endangered steelhead that must migrate to and from their historical spawning and rearing habitats in the upper watershed and the estuary and ocean to complete their life cycle. To improve passage of endangered steelhead and renovate and expand the existing headworks of the Freeman Diversion, the applicant's April 9, 2024 application proposes: (1) renovating the existing Denil fish ladder and diversion headworks; (2) resurfacing the diversion's grade-control structure; (3) operating the fish-passage, water diversion, and sediment-management systems; (4) capturing and relocating steelhead; (5) expanding the off-channel water-conveyance infrastructure and diversion capacity to 21.24 m³ per second; (6) maintaining facilities and property; (7) developing conservation and monitoring programs; (8) restoring and enhancing habitat; and (9) implementing adaptive-management measures. The applicant seeks a 50-year permit term to exempt incidental take of endangered steelhead associated with the foregoing activities, which are described further in the applicant's Habitat Conservation Plan (HCP). Additionally, the HCP specifies the steps that the applicant will undertake to avoid, minimize, mitigate, and monitor the impacts of the proposed activities and related incidental take on endangered steelhead.

Authority

Section 9 of the ESA and Federal regulation prohibit the take of the Endangered Southern California Distinct Population Segment of Steelhead (endangered steelhead). The ESA defines “take” to mean harass, harm, pursue, hunt, shoot, wound, kill, trap, capture, or collect, or to attempt to engage in any such conduct. However, under section 10(a)(1)(B) of the ESA, we may issue permits to authorize incidental take. “Incidental take” is defined by the ESA as take that is incidental to, and not the purpose of, carrying out an otherwise lawful activity. Section 10(a)(2)(A) of the ESA requires an applicant for an incidental take permit to submit an HCP that specifies the steps the applicant will take to minimize and mitigate the impacts of the taking on the species. Regulations governing incidental take permits for threatened and endangered species are found at 50 CFR 222.307.

National Environmental Policy Act

We are withdrawing the NOI published in the Federal Register on November 11, 2013 (78 FR 67336) to prepare an EIS in accordance with the National Environmental Policy Act (NEPA) to analyze the impacts on the human environment resulting from the potential for issuing a HCP on a previous permit application from the applicant. We are taking this action because the proposed action for the previous permit application used as the basis for preparing the NOI has changed, and the original analysis is outdated. Additional details about the range of alternatives considered in this action are included in the November 11, 2013 NOI and are not repeated here. We solicited public input on the scope of the analysis through a public comment on the NOI from November 11, 2013 until January 13, 2014.

We will revisit and fulfill all necessary NEPA obligations once the revised permit application has been determined to meet issuance criteria.

Next Steps

We will evaluate the applicant's April 9, 2024 permit application, including the HCP, related documents, and public comments received, to determine whether the application meets the criteria for issuing a permit under 16 U.S.C. 1539(a)(2)(B). In addition, we will evaluate whether issuing a section 10(a)(1)(B) permit to the applicant would comply with section 7 of the ESA through the conduct of an intra-agency section 7 consultation. The final NEPA and permit determinations will not be made until after the end of the comment period. NMFS will publish a record of its final action in the Federal Register.

Dated: July 23, 2024.
Angela Somma,
Chief, Endangered Species Division, Office of Protected Resources, National Marine Fisheries Service.

[FR Doc. 2024-16563 Filed 7-29-24; 8:45 am]

BILLING CODE 3510-22-P